DEPARTMENT OF COMMERCE

National Oceanic and Atmospheric Administration

[I.D. 040904C]

Proposed Information Collection; Comment Request; In-depth Community Profiling of Fishing Communities in the Southeast Region

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before June 15, 2004.

ADDRESSES: Direct all written comments to Diana Hynek, Departmental Paperwork Clearance Officer, Department of Commerce, Room 6625, 14th and Constitution Avenue, NW, Washington, DC 20230 (or via e-mail at dHynek@doc.gov).

FOR FURTHER INFORMATION CONTACT: Requests for additional information or copies of the information collection instrument and instructions should be directed to Dr. Brent Stoffle, NOAA Fisheries, Southeast Fisheries Science Center, 75 Virginia Beach Dr., Miami, FL 33149, 305-361-4276.

SUPPLEMENTARY INFORMATION:

I. Abstract

The purpose of this research is to develop in-depth community profiles for fishing communities in the Southeast Region, excluding the U.S. Caribbean. The Magnuson-Stevens Act (MSA, particularly National Standard 8, NS 8), National Environmental Protection Act (NEPA), and Executive Order (EO) 12898 (Federal Actions to Address Environmental Justice in Minority Populations and Low-Income Populations) require that social impact analyses be conducted when federal agencies propose new regulations. These analyses require the social and cultural baseline data for various stakeholders, including descriptions of the commercial, recreational (including for hire) and subsistence fishing sectors. This effort is in response to the urgent need for research consistent with these new definitions and guidelines.

This research not only focuses on the development of an extensive description of fishing communities and the social and economic networks embedded within these communities, but also solicits fishermen's perceptions about various kinds of common management options. The purpose of this is to be able to provide managers with a sense of what types of management options are determined to be more effective than others from the perspective of the fishermen. Some examples of the types of options to be discussed are Marine Protected Areas (MPAs), Individual Fishing Quotas, Seasonal Closures and Limited Entry.

II. Method of Collection

The data will be collected through individual and group interviews. Those interviewed will include a variety of stakeholders, including commercial, recreational, and subsistence fishermen, owners of packing houses, and key local, state and federal fisheries personnel. As well, business owners directly and indirectly impacted by fishing will be interviewed in order to identify the social and economic networks that exist within and outside of the place-based definition of a fishing community.

III. Data

OMB Number: None.

Form Number: None.

Type of Review: Regular submission.

Affected Public: Business and other for-profit organizations.

Estimated Number of Respondents: 500.

Estimated Time Per Response: 60 minutes.

Estimated Total Annual Burden Hours: 500.

Estimated Total Annual Cost to Public: $0.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 9, 2004.
Gwellnar Banks,
Management Analyst, Office of the Chief Information Officer.

[FR Doc. 04-8697 Filed 4-15-04; 8:45 am]

BILLING CODE 3510-22-S